DEPARTMENT OF TRANSPORTATION

Federal Aviation Administration

14 CFR Part 71

[Docket No. FAA-2021-0277; Airspace Docket No. 21-AGL-19]

RIN 2120-AA66

Revocation of Class E Airspace: Standish, MI

AGENCY: Federal Aviation Administration (FAA), DOT.

ACTION: Final rule, withdrawal.

SUMMARY: The FAA published the same final action twice, on August 31, 2021, and again on September 8, 2021. The FAA is withdrawing the first publication.

DATES: Effective October 1, 2021, FR Doc. 2021-18709, published at 86 FR 48494 (August 31, 2021), is withdrawn.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order JO 7400.11F at NARA, email: fr.inspection@nara.gov or go to https://www.archives.gov/federal-register/cfr/ibr-locations.html.

FOR FURTHER INFORMATION CONTACT: Rebecca Shelby, Federal Aviation Administration, Operations Support Group, Central Service Center, 10101 Hillwood Parkway, Fort Worth, TX 76177; telephone (817) 222-5857.

SUPPLEMENTARY INFORMATION:

History

The FAA published FR Doc. 2021-18709 (86 FR 48494) on August 31, 2021, with an effective date of October 7, 2021. This docket did not allow sufficient time to accomplish charting, and the FAA re-published the same document as FR Doc. 2021-19276 (86 FR 50248) on September 8, 2021, with a later effective date of December 2, 2021, without withdrawing the first document. The FAA is withdrawing the first document.

List of Subjects in 14 CFR Part 71

Airspace, Incorporation by reference, Navigation (air).

The Withdrawal

Accordingly, pursuant to the authority delegated to me, the final rule published in the Federal Register on August 31, 2021, (86 FR 48494) FR Doc. 2021-18709 is hereby withdrawn.

Authority: 49 U.S.C. 106(f), 106(g); 40103, 40113, 40120; E.O. 10854, 24 FR 9565, 3 CFR, 1959-1963 Comp., p. 389.

Issued in Fort Worth, Texas, on September 24, 2021.
Martin A. Skinner,
Acting Manager, Operations Support Group, ATO Central Service Center.

[FR Doc. 2021-21232 Filed 9-30-21; 8:45 am]

BILLING CODE 4910-13-P